INTERNATIONAL TRADE COMMISSION

[Investigation No. 332-227]

Annual Report on the Impact of the Caribbean Basin Economic Recovery Act on U.S. Industries and Consumers and Beneficiary Countries

AGENCY: United States International Trade Commission.

ACTION: Notice of opportunity to submit comments in connection with the 2000 biennial report.

EFFECTIVE DATES: April 11, 2001.

FOR FURTHER INFORMATION CONTACT: Thomas Jennings (202-205-3260), Country and Regional Analysis Division, Office of Economics, U.S. International Trade Commission, Washington, DC 20436.

Background: Section 215(a) of the Caribbean Basin Economic Recovery Act (CBERA) (19 U.S.C. 2704(a)), as amended, requires that the Commission submit biennial reports to the Congress and the President regarding the economic impact of the Act on U.S. industries and consumers, and on beneficiary countries. Section 215(b)(1) requires that the reports include:

(1) The actual economic effect of CBERA on the U.S. economy generally as well as on specific industries which produce articles that are like, or directly competitive with, articles being imported under the Act; and

(2) The probable future effect of CBERA on the U.S. economy generally and on industries affected by the Act.

(3) The impact of CBERA in promoting export-oriented growth and diversification of production in the beneficiary countries.

The latter item constitutes an addition to the Commission's mandated reporting requirement and will be undertaken for the first time as part of this year's report. The United States-Caribbean Basin Trade Partnership Act (19 U.S.C. 2701), Title II of the Trade and Development Act of 2000, amended the original CBERA legislation by broadening the scope of the Commission's reporting requirement and modifying the frequency of Commission reporting. The requirement was changed from an annual to a biennial report.

Notice of institution of the investigation and the schedule for such reports was published in the Federal Register of May 14, 1986 (51 FR 17678). The fifteenth report, covering calendar year 2000, is to be submitted by September 30, 2001.

Written Submissions: The Commission does not plan to hold a public hearing in connection with the preparation of this fifteenth report. However, interested persons are invited to submit written statements concerning the matters to be addressed in the report. Commercial or financial information that a party desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available for inspection by interested persons in the Office of the Secretary to the Commission. To be assured of consideration by the Commission, written statements relating to the Commission's report should be submitted at the earliest practical date and should be received no later than June 29, 2001.

Address all submissions to the Secretary to the Commission, U.S. International Trade Commission, 500 E St., SW., Washington, DC 20436. Hearing-impaired persons are advised that information on this matter can be obtained by contacting the Commission's TDD terminal on (202) 205-1810.

Issued: April 11, 2001.
By order of the Commission.
Donna R. Koehnke,
Secretary.

[FR Doc. 01-9516 Filed 4-17-01; 8:45 am]

BILLING CODE 7020-02-P